OFFICE OF THE UNITED STATES TRADE REPRESENTATIVE

African Growth and Opportunity Act Implementation Subcommittee of the Trade Policy Staff Committee; Public Comments on Determining Country Eligibility for Benefits Under the African Growth and Opportunity Act, Title I of the Trade and Development Act of 2000

ACTION: Notice and request for comments.

SUMMARY: The African Growth and Opportunity Act Implementation Subcommittee of the Trade Policy Staff Committee is requesting written public comments on the eligibility of sub-Saharan African countries to receive the benefits of the recently-enacted African Growth and Opportunity Act (AGOA). The notice lists the eligibility criteria that must be considered under the AGOA, lists the countries considered to be sub-Saharan African countries under the AGOA, provides the deadline for written comments, and explains how to make written comments on the eligibility criteria elaborated in the AGOA. Comments received will be considered by the African Growth and Opportunity Act Implementation Subcommittee of the Trade Policy Staff Committee, chaired by USTR, in developing recommendations on country eligibility for the President. Initial designation of beneficiary countries under the AGOA should be made in Fall 2000. Comments received related to the child labor criteria may also be considered by the Secretary of Labor in determining the findings required under Section 504 of the Trade Act of 1974, as amended.

DATES: Public Comments are due by noon, July 14, 2000.

FOR FURTHER INFORMATION CONTACT: Office of African Affairs, Office of the United States Trade Representative, 600 17th Street, NW, Room 501, Washington, DC 20508. Telephone (202) 395-9514.

SUPPLEMENTARY INFORMATION: Signed into law on May 18, 2000, the Trade and Development Act of 2000 contains, in Title I, provisions for enhanced trade benefits for sub-Saharan African countries. Titled the “African Growth and Opportunity Act” (AGOA), the AGOA amends the Generalized System of Preferences (GSP), Title V of the Trade Act of 1974, as amended (the Trade Act) (19 USC 2461 et seq.), to authorized the President to designated sub-Saharan African countries as eligible for preferential tariff treatment for certain articles.

Eligibility Criteria

Under AGOA, the eligibility criteria that must be considered include those in Section 104 of the AGOA and in Section 502 of the Trade Act. The requirements of Section 104 of the AGOA are:

“(a) In General.—The President is authorized to designate a sub-Saharan African country as an eligible sub-Saharan African country if the President determines that the country——

(1) Has established, or is making continual progress toward establishing—

(A) A market-based economy that protects private property rights, incorporates an open rules-based trading system, and minimizes government interference in the economy through measures such as price controls, subsidies, and government ownership of economies assets;

(B) The rule of law, political pluralism, and the right to due process, a fair trial, and equal protection under the law;

(C) The elimination of barriers to United States trade and investment, including by—

(i) The provision of national treatment and measures to create an environment conductive to domestic and foreign investment;

(ii) The protection of intellectual property; and

(iii) The resolution of bilateral trade and investment disputes;

(D) Economic policies to reduce poverty, increase the availability of health care and educational opportunities, expand physical infrastructure, promote the development of private enterprise, and encourage the formation of capital markets through micro-credit or other programs;

(E) a system to combat corruption and bribery, such as signing and implementing the Convention on Combating Bribery of Foreign Public Officials in International Business Transactions; and

(F) protection of internationally recognized workers rights, including the right of association, the right to organize and bargain collectively, a prohibition on the use of any form of forced or compulsory labor, a minimum age for the employment of children, and acceptable conditions of work with respect to minimum wages, hours of work, and occupational safety and health;

(2) does not engage in activities that undermine United States national security or foreign policy interest; and

(3) does not engage in gross violations of internationally recognized human rights or provide support for acts of international terrorism and cooperates in international efforts to eliminate human rights violations and terrorist activities.

(b) Continuing Compliance: If the President determines that an eligible sub-Saharan African country is not making continual progress in meeting the requirements described in subsection (a)(1), the President shall terminate the designation of the country made pursuant to subsection (a).”

The applicable GSP criterion as amended by the AGOA (Section 502(b)(2)(H) of the Trade Act) is:

“(2) Other bases for ineligibility.—The President shall not designate any country a beneficiary developing country under this title if any of the following applies:

* * * * *

(H) Such country has not implemented its commitments to eliminate the worst forms of child labor.”

Countries Considered to be sub-Saharan African Countries

Section 107 of the AGOA defines the terms “sub-Saharan Africa”, “sub-Saharan African country”, “country in sub-Saharan Africa”, and “countries in sub-Saharan Africa” as constituting the following countries (or any successor political entities):

“Republic of Angola (Angola).

Republic of Benin (Benin).

Republic of Botswana (Botswana).

Burkina Faso (Burkina).

Republic of Burundi (Burundi).

Republic of Cameroon (Cameroon).

Republic of Cape Verde (Cape Verde).

Central African Republic.

Republic of Chad (Chad).

Federal Islamic Republic of Comoros (Comoros).

Democratic Republic of Congo.

Republic of the Congo (Congo).

Republic of Cote d'Ivoire (Cote d'Ivoire).

Republic of Djibouti (Djibouti).

Republic of Equatorial Guinea (Equatorial Guinea).

State of Eritrea (Eritrea).

Ethiopia.

Gabonese Republic (Gabon).

Republic of the Gambia (Gambia).

Republic of Ghana (Ghana).

Republic of Guinea (Guinea).

Republic of Guinea-Bissau (Guinea-Bissau).

Republic of Kenya (Kenya).

Kingdoom of Lesotho (Lesotho).

Republic of Liberia (Liberia).

Republic of Madagascar (Madagascar).

Republic of Malawi (Malawi).

Republic of Mali (Mali).

Islamic Repubic of Mauritania (Mauritania).

Republic of Mauritius (Mauritius).

Republic of Mozambique (Mozambique).

Republic of Namibia (Namibia).

Republic of Niger (Niger).

Federal Republic of Nigeria (Nigeria).

Republic of Rwanda (Rwanda).

Democratic Republic of Sao Tome and Principe (Sao Tome and Principe).

Republic of Senegal (Senegal).

Republic of Seychelles (Seychelles).

Republic of Sierra Leone (Sierra Leone).

Somalia.

Republic of South Africa (South Africa).

Republic of Sudan (Sudan).

Kingdom of Swaziland (Swaziland).

United Republic of Tanzania (Tanzania).

Republic of Togo (Togo).

Republic of Uganda (Uganda).

Republic of Zambia (Zambia).

Republic Zimbabwe (Zimbabwe).

Submitting Written Comments

Interested parties are invited to submit comments regarding the eligibility of countries noted above for designation as beneficiary sub-Saharan African Countries. All submissions must include an original and twenty (20) copies in English. All submissions should clearly identify on the cover page of the submission the country of countries and eligibility criterion or criteria discussed within the submission. All pages should be clearly numbered and include the name of the person and/or organization submitting the written comments. Persons submitting written comments should provide the original and twenty (20) copies no later than noon on July 14, 2000, to Gloria Blue, Executive Secretary, Trade Policy Staff Committee, Office of the United States Trade Representative, Room 122, 600 17th Street N.W., Washington D.C. 20508. Public versions of all documents relating to this review will be available for inspection by appointment in the USTR public reading room. Appointments may be made from 10 a.m. to noon and 1 p.m. to 4 p.m. by calling (202) 395-6186.

Submissions that are granted “business confidential” status and other information submitted in confidence will not be available for public inspection. Business confidential information will be subject to the requirements of 15 CFR 2003.6. A justification as to why the information contained in the submission should be treated confidentially must be included in the submission. If a document contains such business confidential information, an original and twenty (20) copies of the business confidential versions of the document along with an original and twenty (20) copies of a non-confidential version must be submitted. The document that contains business confidential information should be clearly marked “business confidential” at the top and bottom of each page. The version that does not contain business confidential information (the public version) should also be clearly marked at the top and bottom of every page (either “public version” or “nonconfidential”).

Rosa M. Whitaker,
Assistant U.S. Trade Representative for Africa.

[FR Doc. 00-15406 Filed 6-16-00; 8:45 am]

BILLING CODE 3190-01-M